FEDERAL RETIREMENT THRIFT INVESTMENT BOARD

Sunshine Act Meeting

TIME AND DATE: 10:00 a.m. (EST) February 12, 2001.

PLACE: 4th Floor, Conference Room 4506, 1250 H Street, N.W., Washington, D.C.

STATUS: Open.

MATTERS TO BE CONSIDERED: 1. Approval of the minutes of the January 8, 2001, Board member meeting.

2. Labor Department audit briefing.

3. Thrift Savings Plan activity report by the Executive Director.

4. Investment policy review.

CONTACT PERSON FOR MORE INFORMATION: Thomas J. Trabucco, Director, Office of External Affairs, (202) 942-1640.

Dated: January 31, 2001.
Elizabeth S. Woodruff,
Secretary to the Board, Federal Retirement Thrift Investment Board.

[FR Doc. 01-2974 Filed 1-31-01; 1:38 pm]

BILLING CODE 6760-01-M